DEPARTMENT OF ENERGY

Federal Energy Regulatory Commission

Combined Notice of Filings #1

Take notice that the Commission received the following electric corporate filings:

Docket Numbers: EC14-138-000.

Applicants: Montauk Energy Holdings, LLC, Bowerman Power LFG, LLC, McKinney LFG, LLC, Monmouth Energy, Inc., TX LFG Energy, LP, Toyon Landfill Gas Conversion, LLC, Tulsa LFG, LLC.

Description: Application for Authorization under Section 203 of the Federal Power Act; Request for Expedited Consideration; and Request for Confidential Treatment of Montauk Energy Holdings, LLC, et. al.

Filed Date: 9/9/14.

Accession Number: 20140909-5224.

Comments Due: 5 p.m. ET 9/30/14.

Take notice that the Commission received the following exempt wholesale generator filings:

Docket Numbers: EG14-97-000.

Applicants: Spring Canyon Interconnection LLC.

Description: Notice of Self-Certification of Exempt Wholesale Generator Status of Spring Canyon Interconnection LLC.

Filed Date: 9/10/14.

Accession Number: 20140910-5030.

Comments Due: 5 p.m. ET 10/1/14.

Docket Numbers: EG14-98-000.

Applicants: Spring Canyon Energy III LLC.

Description: Notice of Self-Certification of Exempt Wholesale Generator Status of Spring Canyon Energy III LLC.

Filed Date: 9/10/14.

Accession Number: 20140910-5031.

Comments Due: 5 p.m. ET 10/1/14.

Docket Numbers: EG14-99-000.

Applicants: Spring Canyon Energy II LLC.

Description: Notice of Self-Certification of Exempt Wholesale Generator Status Spring Canyon Energy II LLC.

Filed Date: 9/10/14.

Accession Number: 20140910-5033.

Comments Due: 5 p.m. ET 10/1/14.

Docket Numbers: EG14-100-000.

Applicants: Spring Canyon Energy LLC.

Description: Notice of Self-Certification of Exempt Wholesale Generator Status of Spring Canyon Energy LLC.

Filed Date: 9/10/14.

Accession Number: 20140910-5034.

Comments Due: 5 p.m. ET 10/1/14.

Docket Numbers: EG14-101-000.

Applicants: Seiling Wind Interconnection Services, LLC.

Description: Notice of Self-Certification of Exempt Wholesale Generator Status of Seiling Wind Interconnection Services, LLC.

Filed Date: 9/10/14.

Accession Number: 20140910-5036.

Comments Due: 5 p.m. ET 10/1/14.

Take notice that the Commission received the following electric rate filings:

Docket Numbers: ER12-1302-001.

Applicants: Southern California Edison Company.

Description: Compliance filing per 35: SCE Compliance Filing for Nevada Hydro Settlement to be effective 8/11/2012.

Filed Date: 9/8/14.

Accession Number: 20140908-5000.

Comments Due: 5 p.m. ET 9/29/14.

Docket Numbers: ER14-2808-000.

Applicants: Midcontinent Independent System Operator, Inc.

Description: Supplemental Information/Request of Midcontinent Independent System Operator, Inc.

Filed Date: 9/9/14.

Accession Number: 20140909-5226.

Comments Due: 5 p.m. ET 9/30/14.

Docket Numbers: ER14-2815-000.

Applicants: Southern California Edison Company.

Description: § 205(d) rate filing per 35.13(a)(2)(iii): First Amended LGIA for the Rising Tree Wind Farm Project to be effective 9/11/2014.

Filed Date: 9/10/14.

Accession Number: 20140910-5000.

Comments Due: 5 p.m. ET 10/1/14.

Docket Numbers: ER14-2816-000.

Applicants: Spring Canyon Energy LLC.

Description: Baseline eTariff Filing per 35.1: Filing of Assignment, Co-Tenancy, and Shared Facilities Agreement to be effective 9/15/2014.

Filed Date: 9/10/14.

Accession Number: 20140910-5028.

Comments Due: 5 p.m. ET 10/1/14.

Docket Numbers: ER14-2817-000.

Applicants: Spring Canyon Energy II LLC.

Description: Baseline eTariff Filing per 35.1: Filing of Assignment, Co-Tenancy, and Shared Facilities Agreement to be effective 9/15/2014.

Filed Date: 9/10/14.

Accession Number: 20140910-5029.

Comments Due: 5 p.m. ET 10/1/14.

Docket Numbers: ER14-2818-000.

Applicants: Spring Canyon Interconnection LLC.

Description: Baseline eTariff Filing per 35.1: Filing of Assignment, Co-Tenancy, and Shared Facilities Agreement to be effective 9/15/2014.

Filed Date: 9/10/14.

Accession Number: 20140910-5032.

Comments Due: 5 p.m. ET 10/1/14.

Docket Numbers: ER14-2819-000.

Applicants: Spring Canyon Energy III LLC.

Description: Baseline eTariff Filing per 35.1: Filing of Assignment, Co-Tenancy, and Shared Facilities Agreement to be effective 9/15/2014.

Filed Date: 9/10/14.

Accession Number: 20140910-5035.

Comments Due: 5 p.m. ET 10/1/14.

Docket Numbers: ER14-2820-000.

Applicants: Spring Canyon Energy II LLC.

Description: Initial rate filing per 35.12 Application for Market-Based Rate Authorization to be effective 9/30/2014.

Filed Date: 9/10/14.

Accession Number: 20140910-5037.

Comments Due: 5 p.m. ET 10/1/14.

Docket Numbers: ER14-2821-000.

Applicants: Spring Canyon Energy III LLC.

Description: Initial rate filing per 35.12 Application for Market-Based Rate Authorization to be effective 10/20/2014.

Filed Date: 9/10/14.

Accession Number: 20140910-5038.

Comments Due: 5 p.m. ET 10/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 10, 2014.
Nathaniel J. Davis, Sr.,
Deputy Secretary.

[FR Doc. 2014-22179 Filed 9-16-14; 8:45 am]

BILLING CODE 6717-01-P